DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project

The HRSA Uniform Progress Report (UPR) is used for the preparation and submission of continuation applications for Title VII and VIII health professions and nursing education and training programs. The UPR measures grantee success in meeting (1) the objectives of the grant project, and (2) the cross-cutting outcomes developed for the Bureau of Health Professions' education and training programs. Part I of the progress report is designed to collect information to determine whether sufficient progress has been made on the approved project objectives, as grantees must demonstrate satisfactory progress to warrant continuation of funding. Part II collects information on activities specific to a given program. Part III, the Comprehensive Performance Management System (CPMS), collects data on overall project performance related to the Bureau's strategic goals, objectives, outcomes, and indicators. Progress will be measured based on the objectives of the grant project, and outcome measures and indicators developed by the Bureau to meet requirements of the Government Performance and Results Act (GPRA).

The Bureau has simplified several tables in UPR II and added the ability for grantees to provide better race and ethnicity data. In addition, to respond to the requirements of GPRA, the Bureau has revised its cross-cutting goals, expected outcomes, and indicators in UPR III CPMS that provide the framework for collection of outcome data for its Title VII and VIII programs.

An outcome-based performance system is critical for measuring whether program support is meeting national health workforce objectives. At the core of the performance measurement system are found cross-cutting goals with respect to workforce quality, supply, diversity, and distribution of the health professions workforce.

The estimated annual burden is as follows:

Report | Number of respondents | Responses per respondent | Total responses | Hours per response | Total burden hours
Uniform Progress Report | 1,500 | 1 | 1,500 | 7 | 10,500
Total | 1,500 |  | 1,500 |  | 10,500

Written comments and recommendations concerning the proposed information collection should be sent within 30 days of this notice to the desk officer for HRSA, either by e-mail to OIRA_submission@omb.eop.gov or by fax to 202-395-6974. Please direct all correspondence to the “attention of the desk officer for HRSA.”

Dated: October 9, 2007.
Alexandra Huttinger,
Acting Director, Division of Policy Review and Coordination.

[FR Doc. E7-20383 Filed 10-15-07; 8:45 am]

BILLING CODE 4165-15-P